DEPARTMENT OF ENERGY

Federal Energy Regulatory Commission

Notice of Commission Staff Attendance

The Federal Energy Regulatory Commission hereby gives notice that members of the Commission's staff may attend the following meetings related to the interregional transmission planning activities of the Southwest Power Pool (SPP):

SPP Seams FERC Order 1000 Task Force Meeting—November 2, 2012.

The above-referenced meeting will be a teleconference.

The above-referenced meeting is open to the public.

Further information may be found at www.spp.org.

The discussions at the meeting described above may address matters at issue in the following proceedings:

Docket No. ER09-35-001, Tallgrass Transmission, LLC

Docket No. ER09-36-001, Prairie Wind Transmission, LLC

Docket No. ER09-548-001, ITC Great Plains, LLC

Docket No. ER09-659-002, Southwest Power Pool, Inc.

Docket No. ER11-4105-000, Southwest Power Pool, Inc.

Docket No. EL11-34-001, Midwest Independent Transmission System Operator, Inc.

Docket No. ER12-1401-000, Southwest Power Pool, Inc.

Docket No. ER12-1402-000, Southwest Power Pool, Inc.

Docket No. ER12-1415-000, Southwest Power Pool, Inc.

Docket No. ER12-1460-000, Southwest Power Pool, Inc.

Docket No. ER12-1586-000 et al., Southwest Power Pool, Inc.

Docket No. ER12-1610-000, Southwest Power Pool, Inc.

Docket No. ER12-1772-000, Southwest Power Pool, Inc.

Docket No. ER12-2366-000, Southwest Power Pool, Inc.

Docket No. EL12-2-000, Southwest Power Pool, Inc.

Docket No. EL12-60-000, Southwest Power Pool, Inc., et al.

Docket No. ER12-2387-000 et al., Southwest Power Pool, Inc.

For more information, contact Luciano Lima, Office of Energy Markets Regulation, Federal Energy Regulatory Commission at (202) 288-6738 or Luciano.Lima@ferc.gov.

Dated: October 23, 2012.
Kimberly D. Bose,
Secretary.

[FR Doc. 2012-26595 Filed 10-29-12; 8:45 am]

BILLING CODE 6717-01-P